GENERAL SERVICES ADMINISTRATION

[OMB Control No. 3090-0250]

Submission for OMB Review and Public Comments; Comment Request Entitled Zero Burden Information Collection Reports

AGENCY: Office of Acquisition Policy, GSA.

ACTION: Notice of request for an extension to an existing OMB clearance (3090-0250).

SUMMARY: Under the provisions of the Paperwork Reduction Act of 1995 (44 U.S.C. Chapter 35), the General Services Administration (GSA) has submitted to the Office of Management and Budget (OMB) a request to review and approve an extension of a currently approved information collection requirement concerning Zero Burden Information Collection Reports. A request for public comments was published at 67 FR 13634, March 25, 2002. No comments were received.

Public comments are particularly invited on: Whether this collection of information is necessary and whether it will have practical utility; whether our estimate of the public burden of this collection of information is accurate, and based on valid assumptions and methodology; ways to enhance the quality, utility, and clarity of the information to be collected.

DATES: Comment Due Date: July 25, 2002.

FOR FURTHER INFORMATION CONTACT: Linda Nelson, Acquisition Policy Division, GSA (202) 501-1900.

ADDRESSES: Submit comments regarding this burden estimate or any other aspect of this collection of information, including suggestions for reducing this burden to Ms. Jeanette Thornton, GSA Desk Officer, OMB, Room 10236, NEOB, Washington, DC 20503, and a copy to Ms. Stephanie Morris, General Services Administration (MVP), Room 4035, 1800 F Street, NW., Washington, DC 20405. Please cite OMB Control Number 3090-0250.

SUPPLEMENTARY INFORMATION:

A. Purpose

The General Services Administration is requesting that the Office of Management and Budget (OMB) renew information collection, 3090-0250, Zero Burden Information Collection Reports.

This information requirement consists of reports that do not impose collection burdens upon the public. These collections require information which is already available to the public at large or that is routinely exchanged by firms during the normal course of business. A general control number for these collections decreases the amount of paperwork generated by the approval process. Since May 10, 1992, GSA has published two rules that fall under Information Collection 3090-0250: “Implementation of Public Law 99-506” published at 56 FR 29442, June 27, 1991, and “Industrial Funding Fee” published at 62 FR 38475, July 18, 1997.

B. Annual Reporting Burden

None.

Obtaining copies of proposal: Requester may obtain a copy of the proposal from the General Services Administration, Acquisition Policy Division (MVP), 1800 F Street, NW., Room 4035, Washington, DC 20405, telephone (202) 208-7312. Please cite OMB Control No. 3090-0250, Zero Burden Information Collection Reports.

Dated: June 19, 2002.
Michael W. Carleton,
Chief Information Officer (I).

[FR Doc. 02-15945 Filed 6-24-02; 8:45 am]

BILLING CODE 6820-61-M